DEPARTMENT OF DEFENSE

Department of the Air Force

[Docket ID: USAF-2008-0019]

Privacy Act of 1974; System of Records

AGENCY: Department of the Air Force, DOD.

ACTION: Notice to Delete Three Systems of Records.

SUMMARY: The Department of the Air Force is proposing to delete three systems of records in its inventory of record systems subject to the Privacy Act of 1974 (5 U.S.C. 552a), as amended.

DATES: The changes will be effective on October 31, 2008 unless comments are received that would result in a contrary determination.

ADDRESSES: Send comments to the Air Force Privacy Act Officer, Office of Warfighting Integration and Chief Information Officer, SAF/XCX, 1800 Air Force Pentagon, Suite 220, Washington, DC 20330-1800.

FOR FURTHER INFORMATION CONTACT: Mr. Tommy Lee at (703) 696-6253.

SUPPLEMENTARY INFORMATION: The Department of the Air Force notices for systems of records subject to the Privacy Act of 1974 (5 U.S.C. 552a), as amended, have been published in the Federal Register and are available from the address above.

The Department of the Air Force proposes to delete three system of records notices from its inventory of record systems subject to the Privacy Act of 1974 (5 U.S.C. 552a), as amended. The proposed deletions are not within the purview of subsection (r) of the Privacy Act of 1974 (5 U.S.C. 552a), as amended, which requires the submission of a new or altered system report.

Dated: September 23, 2008.
Patricia L. Toppings,
OSD Federal Register Liaison Officer, Department of Defense.

F051 AF JA G

System name:

Air Force Claims Information Management System (AFCIMS) (June 11, 1997, 62 FR 31793).

Reason:

The records collected for this system are covered by system of records notice F051 AF JA H, Claims Records, published on June 11, 1997. Accordingly, this Privacy Act system of records notice will be deleted.

F051 AF JA E

System name:

Automated Military Justice Analysis and Management System (AMJAMS) (June 11, 1997, 62 FR 31793).

Reason:

The records collected for this system are covered by system of records notice F051 AF JA F, Courts-Martial and Article 15 Records, published on November 23, 2005. Accordingly, this Privacy Act system of records notice will be deleted.

F051 AFJA E

System name:

Air Force Reserve Judge Advocate Personal Data (June 11, 1997, 62 FR 31793).

Reason:

The records collected for this system are covered by system of records notice F051 AFJA C, Judge Advocate Personnel Records, published on June 11, 1997. Accordingly, this Privacy Act system of records notice will be deleted.

[FR Doc. E8-23028 Filed 9-30-08; 8:45 am]

BILLING CODE 5001-06-P